DEPARTMENT OF TRANSPORTATION

Federal Aviation Administration

14 CFR Part 71

[Docket FAA 2004-19684; Airspace Docket 04-ANM-24]

Revision of Class E Airspace; Herlong, CA

AGENCY: Federal Aviation Administration (FAA), DOT.

ACTION: Final rule.

SUMMARY: This final rule will revise the Class E airspace area at Herlong, CA. Additional controlled airspace is necessary for the safety of Instrument Flight Rules (IFR) aircraft during airborne holding. Holding airspace is designed with specific altitudes and lateral boundaries within controlled airspace. This airborne holding procedure is also an integral part of a new Area Navigation (RNAV) Global Positioning System (GPS) Standard Instrument Approach Procedure (SIAP) at the Amedee Army Air Field (AFF), Herlong, CA.

DATES: Effective Date: 0901 UTC, August 3, 2006.

FOR FURTHER INFORMATION CONTACT: Ed Haeseker, Federal Aviation Administration, Western En Route and Oceanic Area Office, Airspace Branch, 1601 Lind Avenue, SW., Renton, WA 98055-4056; telephone (425) 227-2527.

SUPPLEMENTARY INFORMATION:

History

On July 12, 2005, the FAA proposed to amend Title 14 Code of Federal Regulations (14 CFR) part 71 by revising Class E airspace at Herlong, CA (70 FR 39973). The proposed action would provide additional controlled airspace for the safety of IFR aircraft executing airborne holding due to weather, traffic congestion, or other operational reasons. This additional controlled airspace is also necessary for the safety of aircraft transitioning to a new RNAV (GPS) and ILS SIAP at Amedee AAF, Herlong, CA.

Interested parties were invited to participate in this rule making proceeding by submitting written comments on the proposal to the FAA. No comments were received. Class E airspace designations are published in paragraph 6005 of FAA Order 7400.9N, dated September 1, 2005, and effective September 15, 2005, which is incorporated by reference in 14 CFR 71.1. The Class E airspace designations listed in this document will be published subsequently in that order.

The Rule

This amendment to 14 CFR part 71 revises Class E airspace at Herlong, CA, by providing additional controlled airspace for the safety of IFR aircraft during airborne holding. Holding occurs during adverse weather conditions, traffic congestion, or for other operational reasons. This holding procedure is also an integral part of a new RNAV (GPS) (SIAP) at the Amedee AAF, Herlong, CA.

The FAA has determined that this regulation only involves an established body of technical regulations for which frequent and routine amendments are necessary to keep the regulations current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; ROUTES; AND REPORTING POINTS.

1. The authority citation for 14 CFR part 71 continues to read follows:

Authority: 49 U.S.C. 106(g), 40103, 40113, 40120; E.O. 10854, 24 FR 9565, 3 CFR, 1959-1963 Comp., p. 389.

§ 71.1 [Amended]

2. The incorporation by reference in 14 CFR part 71.1 of the Federal Aviation Administration Order 7400.9N, Airspace Designations and Reporting Points, dated September 01, 2005, and effective September 15, 2005, is amended as follows: Paragraph 6005. Class E airspace areas extending upward from 700 feet or more above the surface of the earth.

* * * * *

ANM CA E5 Herlong, CA [Revised]

Amedee VOR/DME

(Lat. 40°16′04″ N., long. 120°09′07″ W.)

That airspace extending upward from 700 feet above the surface of the earth within an area bounded by a line beginning at lat. 40°20′15″ N., long. 119°48′27″ W.; to lat. 40°07′58″ N., 119°51′47″ W.; to lat. 40°11′30″ N., long. 120°16′47″ W.; to lat. 40°20′32″ N., long. 120°14′34″ W.; thence to the point of beginning. That airspace extending upward from 1,200 feet above the surface of the earth beginning at lat. 40°00′00″ N., long. 120°00′00″ W.; west to V452; to lat. 40°30′00″ N.; east to lat. 40°30′00″ N., long. 119°16′00″ W.; south to lat. 40°00′00″ N., long. 119°16′00″ W.; west to point of beginning.

* * * * *

Issued in Seattle, Washington, on March 31, 2006.
R.D. Engelke,
Acting Area Director, Western En Route and Oceanic Operations.

[FR Doc. 06-3864 Filed 4-21-06; 8:45 am]

BILLING CODE 4910-13-M